POSTAL SERVICE

Board of Governors; Sunshine Act Meeting; Notification of Day Added to Meeting

Previously Announced Date of Meeting: April 12, 2005.

Status: Closed.

Previous Announcement: 70 FR 17270, April 5, 2005.

Addition: The Board of Governors of the United States Postal Service voted unanimously to add an additional day to the agenda of its closed meeting and that no earlier announcement was possible.

Status: April 11, 2005-4:30 p.m. (Closed).

Matters to be Considered: Agenda of previously announced April 12 closed meeting.

FOR FURTHER INFORMATION CONTACT: William T. Johnstone, Secretary of the Board, U.S. Postal Service, 475 L'Enfant Plaza, SW., Washington, DC 20260-1000. Telephone (202) 268-4800.

William T. Johnstone,
Secretary.

[FR Doc. 05-8075 Filed 4-18-05; 8:45 am]

BILLING CODE 7710-12-M0